DEPARTMENT OF TRANSPORTATION

Federal Aviation Administration

14 CFR Part 39

[Docket No. FAA-2015-0934; Directorate Identifier 2014-NM-030-AD; Amendment 39-18287; AD 2015-20-08]

RIN 2120-AA64

Airworthiness Directives; Dassault Aviation Airplanes

AGENCY: Federal Aviation Administration (FAA), Department of Transportation (DOT).

ACTION: Final rule.

SUMMARY: We are adopting a new airworthiness directive (AD) for all Model FAN JET FALCON, FAN JET FALCON SERIES C, D, E, F, and G airplanes; Model MYSTERE-FALCON 200 airplanes; and Model MYSTERE-FALCON 20-C5, 20-D5, 20-E5, and 20-F5 airplanes. This AD was prompted by reports of defective fire extinguisher tubes. It was determined the defects were caused by corrosion. This AD requires repetitive general visual inspections of the fire extinguisher tubes for cracking and corrosion, and replacement of any cracked tube with a serviceable tube, if necessary. We are issuing this AD to detect and correct cracking and corrosion in the fire extinguisher tubes, which could impact the capability to extinguish an engine fire, and possibly result in damage to the airplane and injury to the passengers.

DATES: This AD becomes effective November 12, 2015.

ADDRESSES: You may examine the AD docket on the Internet at http://www.regulations.gov/#!docketDetail;D=FAA-2015-0934; or in person at the Docket Management Facility, U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Dassault Aviation Model FAN JET FALCON, FAN JET FALCON SERIES C, D, E, F, and G airplanes; Model MYSTERE-FALCON 200 airplanes; and Model MYSTERE-FALCON 20-C5, 20-D5, 20-E5, and 20-F5 airplanes. The NPRM published in the Federal Register on May 4, 2015 (80 FR 25254).

The European Aviation Safety Agency (EASA), which is the Technical Agent for the Member States of the European Union, has issued Airworthiness Directive 2013-0299, dated December 19, 2013 (referred to after this as the Mandatory Continuing Airworthiness Information, or “the MCAI”), to correct an unsafe condition for all Dassault Aviation Model FAN JET FALCON, FAN JET FALCON SERIES C, D, E, F, and G airplanes; Model MYSTERE-FALCON 200 airplanes; and Model MYSTERE-FALCON 20-C5, 20-D5, 20-E5, and 20-F5 airplanes. The MCAI states:

Several defective extinguisher tubes have been reported on certain Dassault Aviation Fan Jet Falcon aeroplanes. The results of the investigations concluded that these occurrences were caused by corrosion.

This condition, if not detected and corrected, could impact the capability to extinguish an engine fire, possibly resulting in damage to the aeroplane and injury to the occupants.

For the reason described above, this [EASA] AD requires repetitive [general visual] inspections [for cracking and corrosion] of the fire extinguisher tubes and, depending on findings, the replacement of an affected part with a serviceable part (improved fire extinguisher tube). It also proposes the replacement of those tubes with the “old Part Number” (P/N) with a serviceable part with the new P/N as a terminating action. In addition, this [EASA] AD prohibits installation of an affected tube on an aeroplane.

You may examine the MCAI in the AD docket on the Internet at http://www.regulations.gov/#!documentDetail;D=FAA-2015-0934-0002.

Comments

We gave the public the opportunity to participate in developing this AD. We received no comments on the NPRM (80 FR 25254, May 4, 2015) or on the determination of the cost to the public.

Conclusion

We reviewed the relevant data and determined that air safety and the public interest require adopting this AD as proposed, except for minor editorial changes. We have determined that these minor changes:

• Are consistent with the intent that was proposed in the NPRM (80 FR 25254, May 4, 2015) for correcting the unsafe condition; and

• Do not add any additional burden upon the public than was already proposed in the NPRM (80 FR 25254, May 4, 2015).

Costs of Compliance

We estimate that this AD affects 170 airplanes of U.S. registry.

We also estimate that it will take about 4 work-hours per product to comply with the basic requirements of this AD. The average labor rate is $85 per work hour. Based on these figures, we estimate the cost of this AD on U.S. operators to be $57,800, or $340 per product.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0934; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-20-08 Dassault Aviation: Amendment 39-18287. Docket No. FAA-2015-0934; Directorate Identifier 2014-NM-030-AD.

(a) Effective Date

This AD becomes effective November 12, 2015.

(b) Affected ADs

None.

(c) Applicability

This AD applies to Dassault Aviation Model FAN JET FALCON, FAN JET FALCON SERIES C, D, E, F, and G airplanes; Model MYSTERE-FALCON 200 airplanes; and Model MYSTERE-FALCON 20-C5, 20-D5, 20-E5, and 20-F5 airplanes, certificated in any category, all manufacturer serial numbers.

(d) Subject

Air Transport Association (ATA) of America Code 26, Fire protection.

(e) Reason

This AD was prompted by reports of defective fire extinguisher tubes. It was determined the defects were caused by corrosion. We are issuing this AD to detect and correct cracking and corrosion in the fire extinguisher tubes, which could impact the capability to extinguish an engine fire, and possibly result in damage to the airplane and injury to the passengers.

(f) Compliance

Comply with this AD within the compliance times specified, unless already done.

(g) Inspection

For airplanes identified in paragraphs (g)(1), (g)(2), and (g)(3) of this AD: Within 13 months or 450 flight hours, whichever occurs first after the effective date of this AD, do a general visual inspection of the fire extinguisher tubes for cracking and corrosion, in accordance with a method approved by the Manager, International Branch, ANM-116, Transport Airplane Directorate, FAA; or the European Aviation Safety Agency (EASA); or Dassault Aviation's EASA Design Organization Approval (DOA). Repeat the inspection thereafter at intervals not to exceed 13 months.

(1) Model FAN JET FALCON airplanes and Model FAN JET FALCON SERIES C, D, E, F, and G airplanes, equipped with any fire extinguisher tubes having part numbers MY20791-101, MY20791-101-1, MY20791-102, MY20791-102-1, MY20791-117, and MY20791-112.

(2) Model MYSTERE-FALCON 200 airplanes equipped with any fire extinguisher tubes having part numbers M20H791000210B1 and M20H791000240B1.

(3) Model MYSTERE-FALCON 20-C5, 20-D5, 20-E5, and 20-F5 airplanes equipped with any fire extinguisher tubes having part numbers M20R791101, M20R791101A1, and M20R791102.

(h) Corrective Action

If, during any inspection required by paragraph (g) of this AD, any cracking or corrosion is found, before further flight, replace the tube with a serviceable tube having a part number specified in Table 1 to paragraph (h) of this AD, as applicable.

Table 1 to Paragraph (h) of This AD—Serviceable Fire Extinguisher Tubes
For model— | Equipped with affected pin— | Replace with serviceable pin—
FAN JET FALCON, FAN JET FALCON SERIES C, D, E, F, and G airplanes | MY20791-101 | MY20791-101-2.
FAN JET FALCON, FAN JET FALCON SERIES C, D, E, F, and G airplanes | MY20791-101-1 | MY20791-101-2.
FAN JET FALCON, FAN JET FALCON SERIES C, D, E, F, and G airplanes | MY20791-102 | MY20791-102-2.
FAN JET FALCON, FAN JET FALCON SERIES C, D, E, F, and G airplanes | MY20791-102-1 | MY20791-102-2.
FAN JET FALCON, FAN JET FALCON SERIES C, D, E, F, and G airplanes | MY20791-117 | MY20791-117n-1.
FAN JET FALCON, FAN JET FALCON SERIES C, D, E, F, and G airplanes | MY20791-112 | MY20791-112-1.
MYSTERE-FALCON 200 airplanes | M20H791000210B1 | M20H791000210B2.
MYSTERE-FALCON 200 airplanes | M20H791000240B1 | M20H791000240B2.
MYSTERE-FALCON 20-C5, 20-D5, 20-E5, and 20-F5 airplanes | M20R791101 | M20R791101A2.
MYSTERE-FALCON 20-C5, 20-D5, 20-E5, and 20-F5 airplanes | M20R791101A1 | M20R791101A3.
MYSTERE-FALCON 20-C5, 20-D5, 20-E5, and 20-F5 airplanes | M20R791102 | M20R791102A2.

(i) Terminating Action for the Repetitive Inspections

Replacement of an affected tube with a serviceable tube, as required by paragraph (h) of this AD, constitutes a terminating action for the repetitive inspections required by paragraph (g) of this AD.

(j) Parts Installation Prohibition

As of the effective date of this AD, no person may install a tube having a part number identified in paragraphs (g)(1), (g)(2), and (g)(3) of this AD, on any airplane.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(l) Related Information

Refer to Mandatory Continuing Airworthiness Information (MCAI) EASA Airworthiness Directive 2013-0299, dated December 19, 2013, for related information. This MCAI may be found in the AD docket on the Internet at http://www.regulations.gov/#!documentDetail;D=FAA-2015-0934-0002.

(m) Material Incorporated by Reference

None.

Issued in Renton, Washington, on September 29, 2015.
Jeffrey E. Duven,
Manager, Transport Airplane Directorate, Aircraft Certification Service.

[FR Doc. 2015-25492 Filed 10-7-15; 8:45 am]

BILLING CODE 4910-13-P